SECURITIES AND EXCHANGE COMMISSION

Issuer Delisting; Notice of Application To Withdraw From Listing and Registration; (Global Technovations, Inc. (Common Stock, par value $.001 per share) File No. 1-11046

February 12, 2001.¹

¹ This notice was originally issued January 25, 2002 but not published in the Federal Register.

Global Technovations, Inc., a Delaware corporation (“Issuer”), has filed an application with the Securities and Exchange Commission (“Commission”), pursuant to section 12(d) of the Securities Exchange Act of 1934 (“Act”) ² and rule 12d2-2(d) thereunder,³ to withdraw its Common Stock, $.001 par value (“Security”), from listing and registration on the American Stock Exchange LLC (“Amex”).

² 15 U.S.C. 78l(d).

³ 17 CFR 240.12d2-2(d).

The Issuer stated in its application that it has met the requirements of Amex Rule 18 by complying with all applicable laws in effect in the State of Delaware, in which it is incorporated, and with the Amex's rules governing an issuer's voluntary withdrawal of a security from listing and registration.

The Issuer's decision to withdraw the Security from listing on the Exchange was caused by the Issuer's filing of a petition for Chapter 11 relief under the United States Bankruptcy Code and its concern that following Court approval of a reorganization plan that the Issuer would not meet the Amex's listing requirements.

The Issuer represents that it will seek to facilitate quotation of its Security on the OTC Bulletin Board. The Issuer's application relates solely to the Security's withdrawal from listing on the Amex and from registration under section 12(b) of the Act ⁴ and shall not affect its obligation to be registered under section 12(g) of the Act.⁵

⁴ 15 U.S.C. 78l(b).

⁵ 15 U.S.C. 78l(g).

Any interested person may, on or before March 2, 2002 submit by letter to the Secretary of the Securities and Exchange Commission, 450 Fifth Street, NW, Washington, DC 20549-0609, facts bearing upon whether the application has been made in accordance with the rules of the Amex and what terms, if any, should be imposed by the Commission for the protection of investors. The Commission, based on the information submitted to it, will issue an order granting the application after the date mentioned above, unless the Commission determines to order a hearing on the matter.

⁶ 17 CFR 200.30-3(a)(1).

For the Commission, by the Division of Market Regulation, pursuant to delegated authority.⁶
Jonathan G. Katz,
Secretary.

[FR Doc. 02-3866 Filed 2-15-02; 8:45 am]

BILLING CODE 8010-01-M